DEPARTMENT OF COMMERCE

National Oceanic and Atmospheric Administration

Marine Protected Areas Federal Advisory Committee; Public Meeting

AGENCY: National Ocean Service, NOAA, Department of Commerce.

ACTION: Notice of open meeting.

SUMMARY: Notice is hereby given of the next meeting of the Marine Protected Areas Federal Advisory Committee (MPAFAC) in the Washington, DC metropolitan area.

DATES: The meeting will be held Tuesday, February 15, 2005 from 9 a.m. to 5:30 p.m., Wednesday, February 16, from 8 a.m. to 5 p.m., and Thursday, February 17, 2005 from 8 a.m. to 5 p.m. These times and the agenda topics described below may be subject to change. Refer to the Web page listed below for the most up-to-date meeting agenda.

ADDRESSES: The meeting will be held at the Hilton Crystal City, 2399 Jefferson Davis Highway, Arlington, Virginia 22202.

FOR FURTHER INFORMATION CONTACT: Lauren Wenzel, Designated Federal Officer, MPAFAC, National Marine Protected Areas Center, 1305 East-West Highway, Silver Spring, Maryland, 20910. (Phone: (301) 713-3100 x136, Fax: (301) 713-3110); e-mail: lauren.wenzel@noaa.gov; or visit the national MPA Center Web site at https://www.mpa.gov.

SUPPLEMENTARY INFORMATION: The MPAFAC, composed of external, knowledgeable representatives of stakeholder groups, has been established by the Department of Commerce to provide advice to the Secretaries of Commerce and Interior on implementation of Section 4 of Executive Order 13158 on MPAs. The meeting will be open to public participation, with a one and a half hour time period set aside from 4 p.m. to 5:30 p.m. on Tuesday, February 15, 2004, and one hour set aside from 8:10 a.m. to 9:10 a.m. on Thursday, February 17, 2004 for the Committee to receive verbal comments or questions from the public. In general, each individual or group making a verbal presentation will be limited to a total time of five (5) minutes. Copies of written statements should be submitted to the Designated Federal Official by Friday, February 11, 2004.

Matters to be Considered: On Tuesday, February 15, the Committee will hear from a speaker on Pacific State and territorial perspectives on the national system of marine protected areas, representatives of two regional fishery management councils, and representatives of tribal organizations. On Wednesday, February 16, the Committee will review and discuss the Committee's recommendations and will hear from speakers on marine protected areas science. On Thursday, February 17, the Committee will continue its consideration of recommendations, and discuss next steps to finalize them.

Dated: January 6, 2005.
Eldon Hout,
Director, Office of Ocean and Coastal Resource Management.

[FR Doc. 05-746 Filed 1-12-05; 8:45 am]

BILLING CODE 3510-08-P